DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitions or any other persons showing a substantial interest in the subject matter of the investigations may request a public hearing, provided such request is filed in writing with the Director, Division of Trade Adjustment Assistance, at the address show below, not later than October 30, 2000.

Interested persons are invited to submit written comments regarding the subject matter of the investigations to the Director, Division of Trade Adjustment Assistance, at the address shown below, not later than October 30, 2000.

The petitions filed in this case are available for inspection at the Office of the Director, Division of Trade Adjustment Assistance, Employment and Training Administration, U.S. Department of Labor, Room C-5311, 200 Constitution Avenue, NW, Washington, DC 20210.

Signed at Washington, D.C. this 2nd day of October, 2000.
Curtis Kooser,
Acting Director, Division of Trade Adjustment Assistance.

Appendix
[Petitions Instituted On 10/02/2000]
TA-W | Subject firm (petitioners) | Location | Date of petition | Product(s)
38,136 | Fruit of The Loom (Wrks) | Harlinger, TX | 09/11/2000 | Sew Blue Jeans.
38,137 | Vincenncis Manufacturing (Wrks) | Vincenncis, IN | 09/20/2000 | Automobile Seats.
38,138 | Ratheon T.I. (Wkrs) | Lewisville TX | 09/15/2000 | Surface Mount Boards.
38,139 | Lyall Alabama (Wrks) | Ardmore, AL | 09/06/2000 | Wire Harnesses.
38,140 | Esquire Novelty (Comp) | Amsterdam, NY | 09/15/2000 | Western Style Toys.
38,141 | Lilly Industries (Wrks) | Paulsboro, NJ | 09/09/2000 | Industrial Paint Products.
38,142 | Bush Brothers and Co. (Wrks) | Blytheville, AR | 09/13/2000 | Canned Foods, Tomato Paste, Spinach.
38,143 | Copley Pharmaceutical (Comp) | Canton, MA | 09/13/2000 | Pharmaceutical Products.
38,144 | Avoca Manufacturing (Wrks) | Avoca, PA | 09/15/2000 | Children's Clothing.
38,145 | Ceragraphic, Inc. (Wkrs) | Hackensack, NJ | 09/12/2000 | Perfume Bottles, Cream Containers.
38,146 | Rosboro Lumber (WCIW) | Springfield, OR | 09/16/2000 | Lumber, Plywood.
38,147 | Potlatch Corp. (Wkrs) | Pierce, ID | 09/14/2000 | Plywood Products.
38,148 | Telex Communications, Inc (Comp) | Newport, TN | 09/15/2000 | Industrial Audio Systems.
38,149 | Plum Creek Timber (Comp.) | Pablo, MT | 09/18/2000 | Lumber Boards.
38,150 | Key Circuit Co (Wrks) | Fountain Valley, CA | 09/18/2000 | Printed Circuit Boards.
38,151 | Elliott Co. (USWA) | Jeannette, PA | 09/06/2000 | Turbines and Compressors.
38,152 | Montgomery Hosiery Mill (Comp) | Star, NC | 09/18/2000 | Socks.
38,153 | Agco Corp. (Wrks) | Coldwater, OH | 09/13/2000 | Farm Eqauipment.
38,154 | Leather's Best (Wrks) | Johnstown, NY | 09/19/2000 | Full Grain Leather Goods.
38,155 | Esco Corp. (Comp) | San Diego, CA | 09/15/2000 | Hydraulic Demolition Hammers.
38,156 | Matsushita Home Appliance (Comp) | Danville, KY | 09/11/2000 | Microwave Ovens.
38,157 | Ashland Chemical (UAW) | Ashtabula, OH | 09/11/2000 | Unsaturated Polyster Resins.
38,158 | Cookson Semiconductor (Wrks) | Warwick, RI | 09/18/2000 | Conductive and Non-Conductive Films.
38,159 | Excel USA, Inc. (Comp) | West Wareham, MA | 09/15/2000 | Surf Masts, Hockey, Sticks.
38,160 | Jomac-Wells Lamont (Comp) | Brunswick, MO | 09/20/2000 | Industrial Work Gloves.
38,161 | Liberty Precision Tool Co (Wrks) | Bessemer City, NC | 09/21/2000 | Machine Parts—Drill Fixtures.
38,162 | Excel Finishing Inc. (Wkrs) | Old Fort, NC | 09/21/2000 | Textiles—Finishing Dyeing.
38,163 | Omron Manufacturing (Comp) | St. Charles, IL | 09/3/2000 | Telecommunication Relays.
38,164 | Nafta Textile Mills, LLC (Wrks) | Manville, RI | 09/20/2000 | Woven Cloth, Dyed and Finished.
38,165 | L and L Manufacturing Co. (Wkrs) | Los Angeles, CA | 09/19/2000 | Sew Clothing.
38,166 | Garan Manufacturing Corp (Wrks) | Rainsville, AL | 09/14/2000 | Apparel.
38,167 | Ametek Aerospace (IUE) | Wilmington, MA | 09/18/2000 | Carles, Thermocouples, Machined Parts.
38,168 | Anchor Dye and Finishing (Wkrs) | Philadelphia, PA | 09/19/2000 | Finished Camelhair, Cashmere, Angora.
38,169 | Quality Veneer/Hanel (Wrks) | Odell, OR | 09/20/2000 | Dimensional Lumber.
38,170 | Advance Transformer (Wrks) | Monroe, WI | 09/19/2000 | Ballasts—Lighting.
38,171 | Lear Corp (UAW) | Traverse City, MI | 09/20/2000 | Terminal Block Assemblies.
38,172 | Maxxim Medical (Wrks) | Los Gatos, CA | 09/15/2000 | Disposable Gloves.
38,173 | Ethicon Endo-Surgery, Inc (Comp) | Cincinnati, OH | 09/20/2000 | Surgical Instruments.
38,174 | Paper, Calmenson and Co (USWA) | Bucyrus, OH | 09/22/2000 | Grader Blades.
38,175 | Caitac Manufacturing, Inc (Comp) | Bellingham, WA | 09/18/2000 | Men's Denim Jeans.
38,176 | Tyco Electronics (Comp) | Romeoville, IL | 09/08/2000 | Battery Packs.
38,177 | Potlatch Corp. (Wrks) | Lewiston, ID | 09/11/2000 | Pulp and Paper.
38,178 | Flowserve Corp. (USWA) | Phillipsburg, NJ | 09/14/2000 | Enigne Pumps.

[FR Doc. 00-26727 Filed 10-17-00; 8:45 am]

BILLING CODE 4510-30-M